DEPARTMENT OF DEFENSE

Department of the Army; Corps of Engineers

Intent To Prepare a Draft Environmental Impact Statement/Environmental Impact Report (DEIS/EIR) for a Permit Application for the Sanitation Districts of Los Angeles County's (Sanitation Districts) Clearwater Program in Los Angeles County, CA

AGENCY: U.S. Army Corps of Engineers, DoD.

ACTION: Notice of Intent (NOI).

SUMMARY: In compliance with the National Environmental Policy Act (NEPA) of 1969, 40 CFR 1508.22, and 33 CFR Parts 230 and 325, and in conjunction with the Sanitation Districts, the U.S. Army Corps of Engineers (Corps) is announcing its intent to prepare a DEIS/EIR for the Clearwater Program. The Clearwater Program is a strategic planning initiative to identify wastewater conveyance, wastewater treatment, effluent management, solids processing, and biosolids management needs for the Sanitation Districts' Joint Outfall System through the year 2050. The Clearwater Program will entail the preparation of a new Master Facilities Plan (MFP), which will guide the management, and upgrade/development of the Sanitation Districts' infrastructure. A major component of the MFP is the construction of a new ocean outfall structure extending from the coastline in the vicinity of White Point, Point Fermin, or the Port of Los Angeles up to approximately 7 miles seaward of San Pedro Bay in the Pacific Ocean. The construction of the structure would entail discharge of dredged and fill material in waters of the United States, work in navigable waters of the United States, and potentially the transport of dredged material for ocean disposal. Accordingly, the Sanitation Districts intend to submit a Department of Army application pursuant to Section 404 of the Clean Water Act (CWA), Section 10 of the Rivers and Harbors Act (RHA), and if necessary Section 103 of the Marine Protection, Research, and Sanctuaries Act (MPRSA).

For Additional Information Contact: Kenneth Wong, Project Manager, at (213) 452-3290 (kenneth.wong@usace.army.mil), U.S. Army Corps of Engineers, Los Angeles District, P.O. Box 532711, Los Angeles, CA 90053-2325.

SUPPLEMENTARY INFORMATION: 1. Project Purpose and Need: The Sanitation Districts currently utilize two tunnels and four ocean outfall structures to convey effluent from their Joint Water Pollution Control Plant (JWPCP) in the city of Carson to the Pacific Ocean. The two tunnels were constructed in 1937 and 1958 and have not been inspected in nearly 50 years. Inspection of the tunnels is not possible due to their overall length, limited access, lack of separation between the tunnels, and the overall flow through the tunnels. The project need is to inspect and upgrade aging infrastructure, and to accommodate the projected increase in wastewater flows. The project purpose is to improve existing infrastructure and increase wastewater treatment capacity to accommodate estimated 2050 flows, while complying with all applicable water quality standards. As a part of planned infrastructure improvements, the Sanitation Districts propose to construct a new tunnel and ocean outfall structure.

The new ocean outfall would be composed of onshore and offshore components. The onshore component would entail construction of a 4- to 7-mile long underground tunnel approximately up to 200 feet below ground from the JWPCP to one of three areas (White Point, Point Fermin, or the Port of Los Angeles) from where the tunnel will make the onshore-to-offshore transition. Once offshore, the tunnel may extend up to 7 miles seaward and connect to a diffuser via a riser. Alternatively, once offshore, the tunnel may transition to the ocean floor via a riser to seafloor pipeline(s), which would connect to the diffuser structure. Depending on the location of the diffuser, the seafloor pipeline(s) may extend up to 7 miles offshore.

2. Proposed Action: The offshore component of the new ocean outfall could entail excavation of an approximately 105-foot-wide trench up to 7 miles long requiring dredging of approximately 950,000 cubic yards of sediment. Once excavated, outfall pipe(s), diffuser pipes, bedding, ballast, dredged material, and armor stone would be discharged into the trench. Dredged material not used for trench backfill could be designated for ocean disposal or beach nourishment depending on sediment chemistry.

Dredging, pipe laying, trenching, and other construction activities within the Pacific Ocean, a navigable water of the United States, would be subject to Section 10 of the Rivers and Harbors Act. The discharge of dredged and fill materials associated with pipe laying activities in the Pacific Ocean, a water of the United States, would also be subject to Section 404 of the Clean Water Act. The transportation and discharge of dredged material for the purpose of ocean disposal, if required, would be subject to Section 103 of the Marine Protection, Research, and Sanctuaries Act.

The geographic jurisdiction of Section 10 RHA and Section 404 CWA extends 3 geographic miles seaward (33 CFR Part 329.12(a)). However, a wider zone of geographic jurisdiction out to the Outer Continental Shelf (200 miles seaward) is recognized when a project entails placement of devices on the seabed (33 CFR 322.3(b)). Because the project entails placement of a pipeline up to 7 miles on the seabed, the entire length of the project is subject to both Section 10 RHA and Section 404 CWA jurisdictions.

3. Alternatives Considered: The feasibility of several alternatives is being considered and will be addressed in the DEIS/EIR. Those considered feasible will be analyzed in equal detail to the Proposed Action. Alternatives for the proposed project would evaluate alternate onshore and offshore tunnel alignments; alternate tunnel shaft site locations; and alternate diffuser locations. Furthermore, alternate offshore project designs would be evaluated. One design would extend the tunnel up to 7 miles offshore and connect to the diffuser via a riser. Alternatively, the tunnel may transition via a riser to seafloor pipeline(s), which would connect to a diffuser. Depending on the location of the diffuser, the seafloor pipeline(s) may extend up to 7 miles offshore. The No Federal Action Baseline Alternative would result in implementation of the recommended projects within the MFP without the new ocean outfall and other infrastructure upgrades that require Department of Army permits. Under the No Action Alternative, there would be no upgrade and development of the Sanitation Districts' infrastructure, including the new ocean outfall, to accommodate wastewater management needs through 2050. These alternatives will be further formulated and developed during the scoping process. Additional alternatives that may be developed during the scoping process will also be considered in the DEIS/EIR.

5. Scoping Process: The Corps' scoping process for the DEIS/EIR will involve soliciting written comments and a public meeting. Potential significant issues to be addressed in the DEIS/EIR include aesthetics; air quality; biological resources; cultural resources; geology; hydrology; hazards and hazardous materials; water quality; public health; land use and planning; marine environment (marine hydrology, water quality, public health, and biological resources); noise; population, employment, and housing/environmental justice; public services; recreation; transportation and traffic; utilities, service systems, and energy; and cumulative and growth-inducing impacts. Additional environmental impacts may be identified during the scoping process. Furthermore, the DEIS/EIR will assess the consistency of the Proposed Action with the Coastal Zone Management Act and potential water quality impacts pursuant to Section 401 of the Clean Water Act. Comments are invited from the public and affected agencies, including, but not limited to, the U.S. Environmental Protection Agency, U.S. Fish and Wildlife Service, National Marine Fisheries Service, U.S. Coast Guard, California Department of Fish and Game, California State Water Resources Control Board, California State Lands Commission, California Coastal Commission, and the city of Los Angeles.

Public Meeting: A public scoping meeting to receive input on the scope of the DEIS/EIR will be conducted on Thursday, November 6, 2008 at 6:30 p.m. at Crowne Plaza Hotel, 601 South Palos Verdes Street, San Pedro, California. If you have any questions regarding the meeting, please contact Steven Highter, Supervising Engineer, Sanitation Districts, at shighter@lacsd.org.

6. Availability of the Draft EIS: The DEIS/EIR is expected to be published and circulated in fall 2009, and a public meeting will be held after its publication.

Dated: September 23, 2008.
David J. Castanon,
Chief, Regulatory Division Corps of Engineers.

[FR Doc. E8-23528 Filed 10-3-08; 8:45 am]

BILLING CODE 3710-KF-P